DEPARTMENT OF ENERGY

Federal Energy Regulatory Commission

[Docket No. RP00-2-004]

Overthrust Pipeline Company; Notice of Tariff Filing

September 26, 2000.

Take notice that on September 22, 2000, Overthrust Pipeline Company (Overthrust) tendered for filing, as part of its FERC Gas Tariff, First Revised Volume No. 1-A, following tariff sheets, with an effective date of April 1, 2000:

Sixth Revised Sheet No. 4

On July 28, 2000, Overthrust filed tariff sheets pursuant to Section 4 of the Natural Gas Act, Part 154 of the Commission's Regulations, as part of Overthrust's settlement, to be effective April 1, 2000, (the July 28 filing). Substitute Third Revised Sheet No. 4, which was included in the July 28 filing, is being refiled as Sixth Revised Sheet No. 4 for the purpose of re-pagination and to include revisions resulting from an interim tariff filing approved August 1, 2000, under a separate proceeding in Docket No. RP00-384-000.

Overthrust states that a copy of this filing has been served upon Overthrust's customers, the Wyoming Public Service Commission and the Utah Division of Public Utilities.

Any person desiring to protest filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may also be viewed on the web at http://www.ferc.fed.us/online/rims.htm (call 202-208-2222 for assistance).

David P. Boergers,
Secretary.

[FR Doc. 00-25115 Filed 9-29-00; 8:45 am]

BILLING CODE 6717-01-M